DEPARTMENT OF COMMERCE

Bureau of Industry and Security

Agency Information Collection Activities; Submission to the Office of Management and Budget (OMB) for Review and Approval; Comment Request; Inclusions to the Section 232 National Security Adjustments to Imports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 1, 2025, during a 60-day comment period. This notice allows for an additional 30 days for public comments.

Agency: Bureau of Industry and Security, Department of Commerce.

Title: Inclusions to the Section 232 National Security Adjustments to Imports.

OMB Control Number: 0694-0146.

Form Number(s): N/A.

Type of Request: Regular submission, revision of a currently approved collection.

Number of Respondents: 3,000.

Average Hours per Response: 16 hours.

Burden Hours: 48,000 hours.

Needs and Uses: Section 232 of the Trade Expansion Act of 1962 (19 U.S.C. 1862) authorizes the Secretary of Commerce (Secretary) to conduct comprehensive investigations to determine the effects of imports of an article on the national security of the United States. Such investigations can be initiated by an application by an interested party, a request from the head of any department or agency, or self-initiated by the Secretary. Once an investigation is initiated, the Secretary submits a report to the President on whether the importation of the article in question is occurring in such quantities or under such circumstances as to threaten to impair the national security of the United States. The President then determines whether it is necessary to take action to adjust the imports of an article and its derivatives under Section 232 of the Trade Expansion Act.

The President has initiated twelve investigations into the effects of imports of various article on the national security of the United States under Section 232 since March 2025. The President has also issued multiple Presidential Proclamations implementing tariffs or similar actions to adjust imports of these articles based on the findings of these investigations under Section 232, or revising tariffs or other actions previously implemented with respect to certain articles following prior investigations under Section 232.

Several Proclamations have directed the Secretary to create a process for including additional derivative articles within the scope of the new and existing ad valorem tariffs established under Section 232, including Proclamations 10895 and 10896 of February 2025 (for the Section 232 Steel and Aluminum Tariff), Proclamation 10962 of July 2025 (for the Section 232 Copper Tariff), and Proclamation 10976 of September 2025 (for the Section 232 Timber and Lumber Tariff). These Proclamations broadly authorize the Secretary to include additional derivative articles within the scope of the tariffs unilaterally, or at the request of a producer (or an industry association representing one or more such producers) of such articles or derivative articles within the United States after establishing that imports of said derivative article have increased in a manner that threatens to impair the national security of the United States or otherwise undermine the objectives set forth in the investigations under Section 232 or their associated Presidential Proclamations.

BIS established the Section 232 Inclusions Process in an Interim Final Rule entitled `Adoption and Procedures of the Section 232 Steel and Aluminum Tariff Inclusions Process' (90 FR 18780) in May 2025. The Interim Final Rule established the guidelines and procedures for submitting additional derivative aluminum and steel articles as Section 232 Inclusion Requests. BIS will expand the scope of additional derivative articles encompassed by this Interim Final Rule as needed to incorporate future investigations under Section 232.

Affected Public: Business or other for-profit organizations.

Frequency: On Occasion.

Respondent's Obligation: Voluntary.

Legal Authority: Section 232 of the Trade Expansion Act of 1962, and implementing Presidential Proclamations including but not limited to Presidential Proclamations 10895 and 10896 of February 10, 2025, Presidential Proclamation 10962 of July 30, 2025, and Presidential Proclamation 10976 of September 29, 2025.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0091.

Sheleen Dumas,
Departmental PRA Compliance Officer, Office of the Under Secretary for Economic Affairs, Commerce Department.

[FR Doc. 2025-20874 Filed 11-24-25; 8:45 am]

BILLING CODE 3510-33-P